DEPARTMENT OF HEALTH AND HUMAN SERVICES

Administration for Children and Families

Submission for OMB Review; Comment Request

Title: Subsidized and Transitional Employment Demonstration (STED) and Enhanced Transitional Jobs Demonstration (ETJD).

OMB No.: 0970-0413.

Description: The Administration for Children and Families (ACF) within the U.S. Department of Health and Human Services (HHS) is conducting a national evaluation called the Subsidized and Transitional Employment Demonstration (STED). At the same time, the Employment and Training Administration (ETA) within the Department of Labor (DOL) is conducting an evaluation of the Enhanced Transitional Jobs Demonstration (ETJD). These evaluations will inform the Federal government about the effectiveness of subsidized and transitional employment programs in helping vulnerable populations secure unsubsidized jobs in the labor market and achieve self-sufficiency. The projects will evaluate thirteen subsidized and transitional employment programs nationwide including a test of the effects of an expanded Earned Income Tax Credit for low-income individuals without dependent children.

ACF and ETA are collaborating on the two evaluations. In 2011, ETA awarded grants to seven transitional jobs programs as part of the ETJD, which is testing the effect of combining transitional jobs with enhanced services to assist ex-offenders and noncustodial parents improve labor market outcomes, reduce criminal recidivism and improve family engagement.

The STED and ETJD projects have complementary goals and are focusing on related program models and target populations. Thus, ACF and ETA have agreed to collaborate on the design of data collection instruments to promote consistency across the projects. In addition, two of the seven DOL-funded ETJD programs are being evaluated as part of the STED project. ACF is submitting information collection requests on the behalf of both collaborating agencies. Data for the study is collected from the following three major sources: Baseline forms, follow-up surveys (at 6, 12, and 30 months after study entry), and implementation research and site visits. Data collection for all but one STED site has been reviewed and approved by OMB (see OMB #0970-0413). This notice is specific to the request for approval of the contact information form and baseline information form for the new STED site. These forms will collect important demographic and other information from all study participants in this site prior to the point of random assignment. These data will be important for describing the study sample and for estimating program effects for particular groups of interest.

Respondents: Study participants in the treatment and control groups at one additional STED site.

Annual Burden Estimates—New Instruments
Instrument | Total number of respondents | Annual number of respondents | Number of responses per respondent | Average burden hours per response | Annual burden hours
Participant contact information form | 4,002 | 1,334 | 1 | .08 | 107
Participant baseline information form | 4,002 | 1,334 | 1 | .25 | 334
Total |  |  |  |  | 441

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports Clearance Officer.

[FR Doc. 2015-16283 Filed 7-1-15; 8:45 am]

BILLING CODE 4184-09-P